DEPARTMENT OF THE TREASURY

Departmental Offices; Proposed Collection; Comment Request

ACTION: Notice and request for comments.

SUMMARY: The Department of the Treasury, as part of its continuing effort to reduce paperwork and respondent burden, invites the general public and other Federal agencies to take this opportunity to comment on proposed and/or continuing information collections, as required by the Paperwork Reduction Act of 1995, Public Law 104-13 (44 U.S.C. 3506(c)(2)(A)). Currently, the Office of Financial Stability (OFS) is soliciting comments concerning the Use of Funds Survey for Capital Purchase Program participants.

DATES: Written comments should be received on or before April 12, 2010 to be assured of consideration.

ADDRESSES: Direct all written comments to Department of the Treasury, Daniel Abramowitz, 1500 Pennsylvania Avenue, NW., Washington, DC 20220; (202) 927-9645.

FOR FURTHER INFORMATION CONTACT: Requests for additional information or copies of the form(s) and instructions should be directed as above.

SUPPLEMENTARY INFORMATION: Title: Troubled Asset Relief Program (TARP)—Capital Purchase Program (CPP) Use of Funds Survey.

OMB Control Number: 1505-0222.

Abstract: Authorized under the Emergency Economic Stabilization Act (EESA) of 2008 (Pub. L. 110-343), the Department of the Treasury has implemented several aspects of the Troubled Asset Relief Program (TARP). The TARP includes several components including a voluntary Capital Purchase Program (CPP) under which the Department has purchased qualifying capital in U.S. banking organizations. The CPP is an important part of the Department's efforts to restore confidence in our financial system and ensure that credit continues to be available to consumers and businesses. As an essential part of restoring confidence, the Treasury has committed to determining the effectiveness of the CPP. Additionally, American taxpayers are particularly interested in knowing how banks have used the money that Treasury has invested through the CPP. Consequently, the Treasury is seeking responses from banking institutions that have received CPP funds regarding: how the CPP investment has affected the banks' operations, how these institutions have used CPP funds, and how their usage of CPP funds has changed over time. The information will be used to gauge how participants in the CPP are utilizing TARP capital.

Type of Review: Extension without change to a currently approved information collection.

Affected Public: Private sector: Businesses or other for-profits.

Estimated Number of Respondents: 640.

Estimated Total Annual Burden Hours: 51,200 hours.

Comments submitted in response to this notice will be summarized and included in the request for OMB approval. All comments will become a matter of public record. Comments are invited on: (a) Whether the collection of information is necessary for the proper performance of the functions of the agency, including whether the information shall have practical utility; (b) the accuracy of the agency's estimate of the burden of the collection of information including the validity of the methodology and assumption used; (c) ways to enhance the quality, utility, and clarity of the information to be collected; (d) ways to minimize the burden of the collection of information on respondents, including through the use of automated collection techniques or other forms of information technology; and (e) estimates of capital or start-up costs and costs of operation, maintenance, and purchase of services to provide information.

Dated: January 16, 2010.
Daniel Abramowitz,
Office of Financial Stability PRA Program Officer.

[FR Doc. 2010-2716 Filed 2-8-10; 8:45 am]

BILLING CODE 4810-25-P